DEPARTMENT OF THE TREASURY

Treasury Advisory Committee on Commercial Operations of the U.S. Customs Service; Meeting

AGENCY: Departmental Offices, Treasury.

ACTION: Notice of meeting.

SUMMARY: This notice announces the date, time, and location for the first meeting of the renewed term of the Treasury Advisory Committee on Commercial Operations (COAC), and the provisional agenda for consideration by the Committee.

DATES: The next meeting of the Treasury Advisory Committee on Commercial Operations of the U.S. Customs Service will be held on Friday, December 1, 2000 at 9 a.m. at the Department of the Treasury, Secretary's Conference Room (Rm. 3327), located at 15th Street and Pennsylvania Avenue, NW., Washington, DC. The duration of the meeting will be approximately four hours, starting at 9 a.m.

FOR FURTHER INFORMATION CONTACT: John P. Simpson, Deputy Assistant Secretary (Regulatory, Tariff and Trade Enforcement), Office of the Under Secretary (Enforcement), telephone—(202) 622-0230.

At this meeting, the Advisory Committee is expected to pursue the following agenda. The agenda may be modified prior to the meeting.

Agenda

(1) Merchandise Processing Fee (MPF) (Legislative Principles and Conditions for Renewal of MPF)

(2) Office of Regulations and Rulings (OR&R) (Proposed Prototype for 3rd Party (HQ) Rulings)

(3) Compliance Assessment Team (CAT): (Status of Discussions Between the Trade and Customs on Issues Raised by the Subcommittee's Position Paper)

(4) Treasury Study on Customs Data and Record Keeping Requirements

(5) Current or Proposed Customs Programs (Publication of 592 Violators; Entry Revisions Project “ERP-2”; Resource Allocation Model “RAM”; Post Entry Amendment Process “PEAP”; Importer Compliance Measurement Project “ICMP”; Commissioner's Trade Symposium Proposals)

(6) G-7 Customs Automated Reporting Standardization and Simplification Initiative

(7) Future Meeting Dates and Venues for 7th Term

(8). Agenda Items for Next Meeting

SUPPLEMENTARY INFORMATION: The meeting is open to the public; however, participation in the Committee's deliberations is limited to Committee members, Customs and Treasury Department staff, and persons invited to attend the meeting for special presentations. A person other than an Advisory Committee member who wishes to attend the meeting should contact Theresa Manning at (202) 622-0220 or Helen Belt at (202) 622-0230 for pre-clearance.

Dated: November 16, 2000.
Timothy E. Skud,
Acting Deputy Assistant Secretary (Regulatory, Tariff, and Trade Enforcement).

[FR Doc. 00-29816 Filed 11-21-00; 8:45 am]

BILLING CODE 48110-25M